DEPARTMENT OF ENERGY

Federal Energy Regulatory Commission

[Docket No. RP05-497-001]

Overthrust Pipeline Company; Notice of Proposed Changes in FERC Gas Tariff

September 12, 2005.

Take notice that on September 8, 2005, Overthrust Pipeline Company (Overthrust) tendered for filing Substitute Eleventh Revised Sheet No. 78 to its FERC Gas Tariff, First Revised Volume No. 1-A.

Overthrust states that it is filing the substitute revised tariff sheet in compliance with the Commission's Letter Order issued on August 26, 2005, in Docket No. RP05-497-000, to remove the reference to principle 4.1.25 as required by Order No. 587-S.

Overthrust states that copies of the filing have been served upon Overthrust's customers and the public service commissions of Utah and Wyoming.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Magalie R. Salas,
Secretary.

[FR Doc. E5-5115 Filed 9-16-05; 8:45 am]

BILLING CODE 6717-01-P